DEPARTMENT OF HOMELAND SECURITY

Federal Emergency Management Agency

[Docket ID FEMA-2018-0002; Internal Agency Docket No. FEMA-B-1829]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation (Acting), Department of Homeland Security, Federal Emergency Management Agency.

State and county | Location and case No. | Chief executive officer of community | Community map repository | Online location of letter of map revision | Date of modification | Community No.
Alabama:
Madison | Unincorporated areas of Madison County (17-04-7541P) | The Honorable Dale W. Strong, Chairman, Madison County Commission, 100 North Side Square, Huntsville, AL 35801 | Madison County Public Works Department, 266-C Sheilds Road, Huntsville, AL 35811 | https://msc.fema.gov/portal/advanceSearch | Aug. 17, 2018 | 010151
Arkansas:
Washington | City of Fayetteville (17-06-3792P) | The Honorable Lioneld Jordan, Mayor, City of Fayetteville, 113 West Mountain Street, Fayetteville, AR 72701 | Planning Department, 125 West Mountain Street, Fayetteville, AR 72701 | https://msc.fema.gov/portal/advanceSearch | Aug. 13, 2018 | 050216
Colorado:
Adams | City of Commerce City (17-08-1290P) | The Honorable Sean Ford, Mayor, City of Commerce City, 7887 East 60th Avenue, Commerce City, CO 80022 | City Hall, 7887 East 60th Avenue, Commerce City, CO 80022 | https://msc.fema.gov/portal/advanceSearch | Aug. 8, 2018 | 080006
Adams | Unincorporated areas of Adams County (17-08-1290P) | The Honorable Mary Hodge, Chair, Adams County Board of Commissioners, 4430 South Adams County Parkway, 5th Floor, Suite C5000A, Brighton, CO 80601 | Adams County Development and Engineering Services Department, 4430 South Adams County Parkway, Brighton, CO 80601 | https://msc.fema.gov/portal/advanceSearch | Aug. 8, 2018 | 080001
Arapahoe | City of Centennial, (18-08-0628P) | The Honorable Cathy Noon, Mayor, City of Centennial, 13133 East Arapahoe Road, Centennial, CO 80112 | Southeast Metro Stormwater Authority, 7437 South Fairplay Street, Centennial, CO 80112 | https://msc.fema.gov/portal/advanceSearch | Aug. 3, 2018 | 080315
Broomfield | City and County of Broomfield (17-08-1518P) | The Honorable Randy Ahrens, Mayor, City and County of Broomfield, 1 Descombes Drive, Broomfield, CO 80020 | Engineering Department, 1 Descombes Drive, Broomfield, CO 80020 | https://msc.fema.gov/portal/advanceSearch | Aug. 3, 2018 | 085073
El Paso | Unincorporated areas of El Paso County, (18-08-0558P) | The Honorable Darryl Glenn, President, El Paso County Board of Commissioners, 200 South Cascade Avenue, Suite 100, Colorado Springs, CO 80903 | El Paso County, Pikes Peak Regional Building Department, 2880 International Circle, Colorado Springs, CO 80910 | https://msc.fema.gov/portal/advanceSearch | Aug. 6, 2018 | 080059
Jefferson | Unincorporated areas of Jefferson County (17-08-1483P) | The Honorable Libby Szabo, Chair, Jefferson County Board of Commissioners, 100 Jefferson County Parkway, Golden, CO 80419 | Jefferson County Department of Planning and Zoning, 100 Jefferson County Parkway, Golden, CO 80419 | https://msc.fema.gov/portal/advanceSearch | Jul. 20, 2018 | 080087
Weld | City of Brighton (17-08-1256P) | Mr. Philip Rodriguez, Manager, City of Brighton, 500 South 4th Avenue, Brighton, CO 80601 | City Hall, 500 South 4th Avenue, Brighton, CO 80601 | https://msc.fema.gov/portal/advanceSearch | Jul. 26, 2018 | 080004
Weld | Unincorporated areas of Weld County (17-08-1256P) | The Honorable Steve Moreno, Chairman, Weld County Board of Commissioners, P.O. Box 758, Greeley, CO 80632 | Weld County Commissioner's Office, 915 10th Street, Greeley, CO 80632 | https://msc.fema.gov/portal/advanceSearch | Jul. 26, 2018 | 080266
Florida:
Bay | Unincorporated areas of Bay County (17-04-2041P) | The Honorable William T. Dozier, Chairman, Bay County Board of Commissioners, 840 West 11th Street, Panama City, FL 32401 | Bay County Planning and Zoning Division, 840 West 11th Street, Panama City, FL 32401 | https://msc.fema.gov/portal/advanceSearch | Aug. 1, 2018 | 120004
Collier | Unincorporated areas of Collier County (18-04-2026P) | The Honorable Andy Solis, Chairman, Collier County Board of Commissioners, 3299 Tamiami Trail East, Suite 303, Naples, FL 34112 | Collier County Growth Management Department, 2800 North Horseshoe Drive, Naples, FL 34104 | https://msc.fema.gov/portal/advanceSearch | Aug. 7, 2018 | 120067
Duval | City of Jacksonville (17-04-7972P) | The Honorable Lenny Curry, Mayor, City of Jacksonville, 117 West Duval Street, Suite 400, Jacksonville, FL 32202 | Development Services Division, 214 North Hogan Street, Room 2100, Jacksonville, FL 32202 | https://msc.fema.gov/portal/advanceSearch | Aug. 8, 2018 | 120077
Manatee | Unincorporated areas of Manatee County, (18-04-2274P) | The Honorable Priscilla Trace, Chair, Manatee County Board of Commissioners, P.O. Box 1000, Bradenton, FL 34206 | Manatee County Building and Development Services Department, 1112 Manatee Avenue West, Bradenton, FL 34205 | https://msc.fema.gov/portal/advanceSearch | Aug. 3, 2018 | 120153
Monroe | City of Marathon (17-04-7377P) | The Honorable Michelle Coldiron, Mayor, City of Marathon, 9805 Overseas Highway, Marathon, FL 33050 | Planning Department, 9805 Overseas Highway, Marathon, FL 33050 | https://msc.fema.gov/portal/advanceSearch | Aug. 9, 2018 | 120681
Monroe | Village of Islamorada, (18-04-2264P) | The Honorable Chris Sante, Mayor, Village of Islamorada, 86800 Overseas Highway, Islamorada, FL 33036 | Building Department, 86800 Overseas Highway, Islamorada, FL 33036 | https://msc.fema.gov/portal/advanceSearch | Aug. 3, 2018 | 120424
Orange | City of Orlando (18-04-1385P) | The Honorable Buddy Dyer, Mayor, City of Orlando, 400 South Orange Avenue, Orlando, FL 32801 | Permitting Services Department, 400 South Orange Avenue, Orlando, FL 32801 | https://msc.fema.gov/portal/advanceSearch | Jul. 30, 2018 | 120186
Orange | Unincorporated areas of Orange County, (18-04-1385P) | The Honorable Teresa Jacobs, Mayor, Orange County, 201 South Rosalind Avenue, 5th Floor, Orlando, FL 32801 | Orange County Stormwater Management Department, 4200 South John Young Parkway, Orlando, FL 32839 | https://msc.fema.gov/portal/advanceSearch | Jul. 30, 2018 | 120179
Osceola | Unincorporated areas of Osceola County (17-04-6937P) | The Honorable Viviana Janer, Chair, Osceola County Board of Commissioners, 1 Courthouse Square, Suite 4700, Kissimmee, FL 34741 | Osceola County Stormwater Department, 1 Courthouse Square, Suite 3100, Kissimmee, FL 34741 | https://msc.fema.gov/portal/advanceSearch | Aug. 10, 2018 | 120189
Volusia | City of Ormond Beach (18-04-1321P) | Ms. Joyce Shanahan, Manager, City of Ormond Beach, 22 South Beach Street, Ormond Beach, FL 32174 | City Hall, 22 South Beach Street, Ormond Beach, FL 32174 | https://msc.fema.gov/portal/advanceSearch | Aug. 7, 2018 | 125136
Volusia | Unincorporated areas of Volusia County (18-04-1321P) | The Honorable Ed Kelley, Chairman, Volusia County Council, 123 West Indiana Avenue, DeLand, FL 32720 | Volusia County Building and Zoning Department, 123 West Indiana Avenue, DeLand, FL 32720 | https://msc.fema.gov/portal/advanceSearch | Aug. 7, 2018 | 125155
Wakulla | Unincorporated areas of Wakulla County (17-04-6262P) | The Honorable Ralph Thomas, Chairman, Wakulla County Board of Commissioners, 3093 Crawfordville Highway, Crawfordville, FL 32327 | Wakulla County Planning and Zoning Department, 3095 Crawfordville Highway, Crawfordville, FL 32327 | https://msc.fema.gov/portal/advanceSearch | Jul. 27, 2018 | 120315
Georgia:
Effingham | Unincorporated areas of Effingham County (17-04-6088P) | The Honorable Wesley Corbitt, Chairman, Effingham County Board of Commissioners, 601 North Laurel Street, Springfield, GA 31329 | Effingham County Planning and Engineering Department, 601 North Laurel Street, Springfield, GA 31329 | https://msc.fema.gov/portal/advanceSearch | Jul. 26, 2018 | 130076
Illinois:
Winnebago | Village of Machesney Park (17-05-3855P) | Mr. Tim Savage, Administrator, Village of Machesney Park, 300 Roosevelt Road, Machesney Park, IL 61115 | Community Development Department, 300 Roosevelt Road, Machesney Park, IL 61115 | https://msc.fema.gov/portal/advanceSearch | Aug. 3, 2018 | 171009
Kentucky:
Hardin | City of Elizabethtown (18-04-0788P) | The Honorable Edna Berger, Mayor, City of Elizabethtown, P.O. Box 550, Elizabethtown, KY 42701 | Department of Stormwater Management, 200 West Dixie Avenue, Elizabethtown, KY 42701 | https://msc.fema.gov/portal/advanceSearch | Aug. 6, 2018 | 210095
Montana:
Lake | Unincorporated areas of Lake County (18-08-0356P) | The Honorable Gale Decker, Chairman, Lake County Board of Commissioners, 106 4th Avenue East, Room 211, Polson, MT 59860 | Lake County Courthouse, 106 4th Avenue East, Polson, MT 59860 | https://msc.fema.gov/portal/advanceSearch | Aug. 3, 2018 | 300155
North Carolina:
Mecklenbur | City of Charlotte (17-04-6164P) | The Honorable Vi Lyles, Mayor, City of Charlotte, 600 East 4th Street, Charlotte, NC 28202 | Charlotte-Mecklenburg Stormwater Services Department, 700 North Tryon Street Charlotte, NC 28202 | http://www.msc.fema.gov/lomc | Jun. 30, 2018 | 370159
Wake | Town of Apex (17-04-7005P) | The Honorable Lance Olive, Mayor, Town of Apex, P.O. Box 250, Apex, NC 27502 | Engineering Department, 73 Hunter Street, Apex, NC 27502 | http://www.msc.fema.gov/lomc | Jul. 14, 2018 | 370467
Wake | Unincorporated areas of Wake County, (16-04-2584P) | The Honorable Jessica Holmes, Chair, Wake County Board of Commissioners, P.O. Box 550, Raleigh, NC 27602 | Wake County, Environmental Services Department, 336 Fayetteville Street, Raleigh, NC 27601 | https://msc.fema.gov/portal/advanceSearch | Jul. 6, 2018 | 370368
North Dakota:
Pembina | City of Pembina (17-08-0738P) | The Honorable Kyle Dorion, Mayor, City of Pembina, 152 West Rolette Street, Pembina, ND 58271 | City Hall, 152 West Rolette Street, Pembina, ND 58271 | https://msc.fema.gov/portal/advanceSearch | Aug. 16, 2018 | 385368
Pembina | Unincorporated areas of Pembina County (17-08-0738P) | The Honorable Jim Benjaminson, Chairman, Pembina County Board of Commissioners, 301 Dakota Street West, Cavalier, ND 58220 | Pembina County Emergency Operations Department, 308 Courthouse Drive, Cavalier, ND 58220 | https://msc.fema.gov/portal/advanceSearch | Aug. 16, 2018 | 380079
Oklahoma:
Oklahoma | City of Edmond (18-06-0827P) | The Honorable Charles Lamb, Mayor, City of Edmond, P.O. Box 2970, Edmond, OK 73034 | Engineering Department, Stormwater Management, 10 South Littler Avenue, Edmond, OK 73034 | https://msc.fema.gov/portal/advanceSearch | Aug. 9, 2018 | 400252
South Dakota:
Charles Mix | City of Wagner (17-08-0710P) | The Honorable Donald R. Hosek, Mayor, City of Wagner, P.O. Box 40, Wagner, SD 57380 | City Hall, 60 South Main Avenue, Wagner, SD 57380 | https://msc.fema.gov/portal/advanceSearch | Jul. 19, 2018 | 460224
Charles Mix | Yankton Sioux Tribe (17-08-0710P) | The Honorable Robert Flying Hawk, Chairman, Yankton Sioux Tribe, P.O. Box 1153, Wagner, SD 57380 | Yankton Sioux Tribal Hall, 806 Main Avenue Southwest, Wagner, SD 57380 | https://msc.fema.gov/portal/advanceSearch | Jul. 19, 2018 | 461204
Texas:
Bexar | City of San Antonio (18-06-1577X) | The Honorable Ron Nirenberg, Mayor, City of San Antonio, P.O. Box 839966, San Antonio, TX 78283 | Transportation and Capital Improvements Department, Stormwater Division, 1901 South Alamo Street, 2nd Floor, San Antonio, TX 78204 | https://msc.fema.gov/portal/advanceSearch | Aug. 6, 2018 | 480045
Dallas | City of Irving (17-06-4073P) | The Honorable Rick Stopfer, Mayor, City of Irving, 825 West Irving Boulevard, Irving, TX 75060 | Capital Improvement Program Department, Engineering Section, 825 West Irving Boulevard, Irving, TX 75060 | https://msc.fema.gov/portal/advanceSearch | Jul. 30, 2018 | 480180
Denton | Unincorporated areas of Denton County (17-06-4327P) | The Honorable Mary Horn, Denton County Judge, 110 West Hickory Street, 2nd Floor, Denton, TX 76201 | Denton County Mary and Jim Horn Government Center, 1505 East McKinney Street, Suite 175, Denton, TX 72509 | https://msc.fema.gov/portal/advanceSearch | Aug. 1, 2018 | 480774
Harris | Unincorporated areas of Harris County, (18-06-0478P) | The Honorable Edward M. Emmett, Harris County Judge, 1001 Preston Street, Suite 911, Houston, TX 77002 | Harris County Permit Department, 10555 Northwest Freeway, Suite 120, Houston, TX 77092 | https://msc.fema.gov/portal/advanceSearch | Jul. 30, 2018 | 480287
Johnson | City of Burleson (17-06-2805P) | The Honorable Ken Shetter, Mayor, City of Burleson, 141 West Renfro Street, Burleson, TX 76028 | Public Works Department, 725 Southeast John Jones Drive, Burleson, TX 76028 | https://msc.fema.gov/portal/advanceSearch | Aug. 10, 2018 | 485459
Tarrant | City of Fort Worth (17-06-4077P) | The Honorable Betsy Price, Mayor, City of Fort Worth, 200 Texas Street, Fort Worth, TX 76102 | Transportation and Public Works Department, 200 Texas Street, Fort Worth, TX 76102 | https://msc.fema.gov/portal/advanceSearch | Jul. 13, 2018 | 480596
Tarrant | Town of Edgecliff Village (17-06-4077P) | The Honorable Dennis “Mickey” Rigney, Mayor, Town of Edgecliff Village, 1605 Edgecliff Road, Edgecliff Village, TX 76134 | Town Hall, 1605 Edgecliff Road, Edgecliff Village, TX 76134 | https://msc.fema.gov/portal/advanceSearch | Jul. 13, 2018 | 480592
Virginia:
Prince William | Unincorporated areas of Prince William County (17-03-1825P) | Mr. Christopher E. Martino, Prince William County Executive, 1 County Complex Court, Woodbridge, VA 22192 | Prince William County Department of Public Works, 5 County Complex Court, Woodbridge, VA 22192 | https://msc.fema.gov/portal/advanceSearch | Jul. 12, 2018 | 510119
Stafford | Unincorporated areas of Stafford County (17-03-2523P) | Mr. Thomas C. Foley, Stafford County Administrator, 1300 Courthouse Road, Stafford, VA 22554 | Stafford County Department of Code Administration, 1300 Courthouse Road, Stafford, VA 22554 | https://msc.fema.gov/portal/advanceSearch | Jul. 30, 2018 | 510154

[FR Doc. 2018-11869 Filed 6-1-18; 8:45 am]

BILLING CODE 9110-12-P